DEPARTMENT OF JUSTICE

Notice of Lodging of Proposed Consent Decree Under the Comprehensive Environmental Response, Compensation, and Liability Act

On September 1, 2015, the Department of Justice lodged a proposed consent decree with the United States District Court for the District of Maine in the lawsuit entitled United States and State of Maine v. Maine Mack, Inc., et al., Civil No.: 1:15-00358-NT.

In this action the United States sought recovery, pursuant to the Comprehensive Environmental Response, Compensation, and Liability Act (“CERCLA”), 42 U.S.C. 9601 et seq., of response costs regarding the Hows Corner Superfund Site in Plymouth, Maine (“Site”). The settlement requires two parties to pay $98,409 into a trust account that was established to help fund the cleanup at the Site. The settlement resolves the United States' and the State's claims against these defendants regarding the Site.

The publication of this notice opens a period for public comment on the proposed consent decree. Comments should be addressed to the Assistant Attorney General, Environment and Natural Resources Division, and should refer to United States and State of Maine v. Maine Mack, Inc., et al., Civ. No. 1:15-00358, D.J. Ref. No. 90-11-3-1733/11. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $4.00 (25 cents per page reproduction cost) payable to the United States Treasury.

Robert E. Maher Jr.,
Assistant Section Chief, Environmental Enforcement Section, Environment and Natural Resources Division.

[FR Doc. 2015-22520 Filed 9-4-15; 8:45 am]

BILLING CODE 4410-15-P